DEPARTMENT OF TRANSPORTATION

Office of the Secretary

[OST Docket No. 2012-0057]

Notice of Submission of Proposed Information Collection to OMB

AGENCY: Office of the Secretary, Department of Transportation (DOT).

ACTION: Notice.

SUMMARY: The Department of Transportation has submitted to the Office of Management and Budget (OMB) for review and clearance utilizing emergency review procedures in accordance with the Paperwork Reduction Act of 1995 (PRA) information collection requests regarding submission of tarmac delay plans to DOT and posting of these plans on airlines' and airports' Web sites. DOT requests that OMB authorize these new collections of information on or before April 20, 2012, for 90 days after the date of approval by OMB.

DATES: OMB approval has been requested by April 20, 2012. Comments are due April 23, 2012. Interested persons are invited to submit comments regarding this proposal.

ADDRESSES: Submit comments about this request to the Office of Information and Regulatory Affairs, Attn: OMB Desk Officer for the Department of Transportation, Office of Management and Budget, Washington, DC 20503, Telephone: 202-395-6929/Fax: 202-395-6881 (these are not toll free numbers), email: OIRA_submission@omb.eop.gov. You may also submit comments [identified by Docket No. DOT-OST-2012-0057] through one of the following methods:

• Federal eRulemaking Portal: http://www.regulations.gov. Follow the online instructions for submitting comments.

• Fax: 1-202-493-2251.

• Mail: Docket Management Facility, U.S. Department of Transportation, 1200 New Jersey Avenue SE., Washington, DC 20590.

• Hand Delivery: West Building, Ground Floor, Rm. W-12-140, 1200 New Jersey Ave., 20590-0001 (between 9 a.m. and 5 p.m. EST, Monday through Friday, except on Federal holidays).

FOR FURTHER INFORMATION CONTACT: Blane A. Workie, Office of the General Counsel, Office of the Secretary, U.S. Department of Transportation, 1200 New Jersey Avenue SE., Washington, DC 20590, 202-366-9342 (Voice), 202-366-7152 (Fax), blane.workie@dot.gov (Email). Arrangements to receive this notice in an alternative format may be made by contacting the above-named individual.

SUPPLEMENTARY INFORMATION: The FAA Modernization and Reform Act, which was signed into law on February 14, 2012, requires U.S. carriers that operate scheduled passenger service or public charter service using any aircraft with a design capacity of 30 or more seats, and operators of large hub, medium hub, small hub, or non-hub U.S. airports to submit contingency plans for lengthy tarmac delays to the Secretary of Transportation for review and approval no later than May 14, 2012. The Act also requires each covered carrier and airport to ensure public access to its plan after DOT approval by posting the plan on its Web site. The Department notes that these information collection requirements are specifically required by statute and are not being imposed as an exercise of the Department's discretion. The Department seeks OMB approval for the submission and posting of these plans under the PRA emergency clearance process because use of the normal clearance procedures is reasonably likely to cause the May 14 statutory deadline for submission of plans to be missed. The Department has established a Web address for the filing of contingency plans to enable covered U.S. airlines and airports to easily submit their required plans through the World Wide Web. Once OMB approves this information collection, the Department intends to issue a notice that provides information on how covered U.S. carriers and airports can submit the required plans to the Department through the World Wide Web.

A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6.

This notice addresses two new information collection requirements concerning tarmac delays as a result of the FAA Modernization and Reform Act. For each of these information collections, the title, a description of the respondents, and an estimate of the annual recordkeeping and periodic reporting burden are set forth below:

1. Requirement to submit tarmac delay plan to DOT for review and approval.

Title: Filing of Tarmac Delay Plan to DOT.

Respondents: Each large, medium, small and non-hub airport in the U.S.; U.S. carriers that operate scheduled passenger service or public charter service using any aircraft with a design capacity of 30 or more seats.

Estimated Number of Respondents: 368 U.S. airports and 61 U.S. airlines.

Estimated Total Burden on Respondents: 736 hours for U.S. airports (Average of 2 hours per U.S. airport to prepare and submit plan through electronic submission system since airport associations have prepared templates for use by U.S. airports); 30.5 hours for U.S. carriers (Average of 30 minutes per U.S. carrier to prepare and submit plan through electronic submission system since U.S. carriers already have such plans in place).

Frequency: Every 5 years for covered U.S. airports; every 3 years for covered U.S. carriers.

2. Requirement to ensure public access to tarmac delay plan after DOT approval.

Title: Posting of Tarmac Delay Plan on Web sites.

Respondents: Each large, medium, small and non-hub airport in the U.S.; U.S. carriers that operate scheduled passenger service or public charter service using any aircraft with a design capacity of 30 or more seats.

Estimated Number of Respondents: 368 U.S. airports and 61 U.S. airlines.

Estimated Total Burden on Respondents: 107 hours and 15 minutes (Average of 15 minutes per respondent to post plan on Web site).

Frequency: Every 5 years for covered U.S. airports; every 3 years for covered U.S. airlines.

We invite comments on (a) whether the collection of information is necessary for the proper performance of the functions of the Department, including whether the information will have practical utility; we note that these information collection requirements are specifically required by statute; (b) the accuracy of the Department's estimate of the burden of the proposed information collection; (c) ways to enhance the quality, utility and clarity of the information to be collected; and (d) ways to minimize the burden of the collection of information on respondents, including the use of automated collection techniques or other forms of information technology. As noted above, the Department intends to provide a portal for electronic submission of the required information. All comments will also become a matter of public record.

Issued this 12th day of April 2012, at Washington, DC.
Samuel Podberesky,
Assistant General Counsel for Aviation Enforcement and Proceedings.

[FR Doc. 2012-9176 Filed 4-13-12; 8:45 am]

BILLING CODE 4910-9X-P